DEPARTMENT OF ENERGY

Federal Energy Regulatory Commission

Notice of Application for Amendment of License and Soliciting Comments, Motions To Intervene, and Protests

November 29, 2002.

Take notice that the following application has been filed with the Commission and is available for public inspection:

a. Type of Application: Amendment of License.

b. Project No: 4113-061.

c. Date filed: September 27, 2002.

d. Applicant: Oswego Hydro Partners L.P.

e. Name of Project: Phoenix Project.

f. Location: The project is located on the Oswego River, Phoenix and Oswego Counties, New York.

g. Filed Pursuant to: Federal Power Act, 16 U.S.C. § 791(a)-825(r).

h. Applicant Contact: Sean Fairfield, One South Plaza, Suite 103, PO Box 2175, Glen Falls, NY 12801, (905) 465-4518.

i. FERC Contact: Hillary Berlin at (202) 502-8915.

j. Deadline for filing comments, motions to intervene and protest: December 31, 2002.

All documents (original and eight copies) should be filed with: Ms. Magalie R. Salas, Secretary, Federal Energy Regulatory Commission, 888 First Street, NE., Washington, DC 20426. Comments, protests, and interventions may be filed electronically via the Internet in lieu of paper; see 18 CFR 385.2001(a)(1)(iii) and the instructions on the Commission's Web site under the “e-Filing” link. The Commission strongly encourages electronic filings. Please include the project number (4113-061) on any comments or motions filed.

The Commission's Rules of Practice and Procedure require all interveners filing documents with the Commission to serve a copy of that document on each person in the official service list for the project. Further, if an intervener files comments or documents with the Commission relating to the merits of an issue that may affect the responsibilities of a particular resource agency, they must also serve a copy of the document on that resource agency.

k. Description of Application: The licensee is requesting to amend the minimum flow requirement under article 38 for the June 1 through October 31 period. During this period, the downstream dissolved oxygen (DO) level would be monitored daily if the flow falls below 1900 cubic-feet-per-second (cfs), and the following actions would be taken: if DO falls below 5 mg/l and river flow is below 1500 cfs, all flows will be directed over the flashboards/spillway/tainter gates; if DO falls below 5 mg/l and river flow is between 1500 cfs and 1900 cfs, all but 700 cfs will be directed over the flashboards/spillway/tainter gates; for flows in excess of 1900 cfs, a minimum flow of 300 cfs will be directed over the flashboards/spillway/tainter gates; if DO is above 5 mg/l and river flow is less than 1900 cfs, a minimum flow of 300 cfs will be directed over the flashboards/spillway/tainter gates. The licensee is proposing to amend the license to incorporate the above minimum flow regime, including daily testing of DO in a manner consistent with that undertaken over the past four years. The licensee's proposed flow regime is per a revised Water Quality Certificate issued on August 30, 2002.

l. This filing is available for review at the Commission in the Public Reference Room or may be viewed on the Commission's Web site at http://www.ferc.gov using the “FERRIS” link. Enter the docket number excluding the last three digits in the docket number field to access the document. For assistance, call toll-free 1-866-208-3676 or e-mail FERCOnlineSupport@ferc.gov. For TTY, call (202) 502-8659.

m. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

n. Filing and Service of Responsive Documents—Any filings must bear in all capital letters the title “COMMENTS”, “NOTICE OF INTENT TO FILE COMPETING APPLICATION”, “COMPETING APPLICATION”, “PROTEST”, “MOTION TO INTERVENE”, as applicable, and the Project Number of the particular application to which the filing refers. Any of the above-named documents must be filed by providing the original and the number of copies provided by the Commission's regulations to: The Secretary, Federal Energy Regulatory Commission, 888 First Street, NE., Washington, DC 20426. An additional copy must be sent to Director, Division of Hydropower Administration and Compliance, Federal Energy Regulatory Commission, at the above-mentioned address. A copy of any notice of intent, competing application or motion to intervene must also be served upon each representative of the Applicant specified in the particular application.

o. Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Deputy Secretary.

[FR Doc. 02-30818 Filed 12-5-02; 8:45 am]

BILLING CODE 6717-01-P